DEPARTMENT OF TRANSPORTATION

Coast Guard

33 CFR Part 165

[COTP Tampa 99-042]

RIN 2115 AA97

Safety Zone; Tampa Bay, Tampa, Florida

AGENCY: Coast Guard, DOT

ACTION: Final rule.

SUMMARY: The Coast Guard is amending the permanent regulations for floating safety zones around Anhydrous Ammonia (NH3) vessels transiting the waters of Tampa Bay. These revisions will allow for nighttime vessel transits, and will replace the requirement for a safety zone at the berth, with a requirement to provide 30 minute advanced notice to the NH3 vessel or facility. Safety improvements in Tampa Bay have alleviated the need for such restrictions.

DATES: This section becomes effective March 27, 2000.

FOR FURTHER INFORMATION CONTACT: Lieutenant Warren Weedon, Chief, Waterways Management Branch at (813) 228-2189.

SUPPLEMENTARY INFORMATION:

Regulatory History

On August 31, 1999, the Coast Guard published a notice of proposed rulemaking on this amendment to the permanent safety zones around Anhydrous Ammonia (NH3) vessels transiting Tampa Bay in the Federal Register (64 FR 47752). No comments were received during the comment period.

Background and Purpose

After extensive discussions from the Tampa Bay Harbor Safety Committee and the formation of a Safety Zone Subcommittee consisting of Coast Guard representatives, vessel agents, pilots, tug operators and port authority representatives, recommendations were forwarded to the Coast Guard Captain of the Port to amend the regulations for NH3 vessels transiting the Port of Tampa.

In 1991, Coast Guard Marine Safety Office Tampa temporarily amended the transit requirements for Anhydrous Ammonia (NH3) vessels, through Port Community Information Bulletin (PCIB) 6-91 which allowed NH3 vessels to enter and transit the Port of Tampa during the nighttime with a minimum of three mile visibility. It also replaced the safety zone extending 150 feet waterside while the vessel is moored, with a requirement calling for vessels over 5000 gross tons to provide a 30 minute notification allowing the NH3 vessel time to take appropriate safety precautions. PCIB 6-91 has been replaced with a case by case waiver from the current regulations, utilizing the operational restriction initially identified in the PCIB. The Captain of the Port is now incorporating these proven operational guidelines into the permanent regulations.

In the late 1980's and early 1990's, many safety changes were made to the port, including the widening and deepening of the shipping channels, installation of centerline range marks, inbound and outbound, an increased brightness in range lights and a new Vessel Traffic Advisory System (VTAS). These changes have enhanced the level of safety on the navigable waters of Tampa Bay.

Regulatory Evaluation

This rule is not a significant regulatory action under section 3(f) of Executive Order 12866 and does not require an assessment of potential costs and benefits under section 6(a)(3) of the order. It has been exempted from review by the Office of Management and Budget under that order. It is not significant under the regulatory policies and procedures of the Department of Transportation (DOT) (44 FR 11040; February 26, 1979). The Coast Guard expects the economic impact of this rule to be so minimal that a full Regulatory Evaluation under paragraph 10e of the regulatory policies and procedures of DOT is unnecessary. This regulation already exists. The amended rule will have minimal effects on vessel traffic as it will only extend the hours of operation to include the nighttime.

Small Entities

Under the Regulatory Flexibility Act (5 U.S.C. 601 et seq.), the Coast Guard must consider whether this rule will have a significant economic impact on a substantial number of small entities. “Small entities” include small businesses, not-for-profit organizations that are independently owned and operated and are not dominant in their field and governmental jurisdictions with populations of less than 50,000.

Therefore, the Coast Guard certifies under section 605(b) that this rule will not have a significant effect upon a substantial number of small entities, as this regulation will only be in effect approximately twice a week for two hours in a limited area of the Port of Tampa.

Collection of Information

This rule contains no collection of information requirements under the Paperwork Reduction Act (44 U.S.C. 3501 et seq.).

Federalism

This action has been analyzed in accordance with the principles and criteria contained in Executive Order 13132, and it has been determined that the rulemaking does not have sufficient Federalism implications under that order.

Environmental Assessment

The Coast Guard has considered the environmental impact of this action and has determined under Figure 2-1, paragraph (34)(g) of Commandant Instruction M16475.1C, that this rule is categorically excluded from further environmental documentation. A Categorical Exclusion Determination has been prepared and is available in the docket for inspection and copying.

List of Subjects in 33 CFR Part 165

Harbors, Marine safety, Navigation (water), Reports and recordkeeping requirements, Security measures, Waterways.

Final Regulations

In consideration of the foregoing, the Coast Guard amends Part 165 of Title 33, Code of Federal Regulations as follows:

PART 165—[AMENDED]

1. The authority citation for Part 165 continues to read as follows:

Authority: 33 U.S.C. 1231; 50 U.S.C. 191; 33 CFR 1.05-1(g), 6.04-1, 6.04-6, and 160.5; 49 CFR 1.46.

2. Revise § 165.703 (b) and (g) to read as follows:

§ 165.703 Safety Zone; Tampa Bay, Florida.

* * * * *

(b) All vessels over 5000 gross tons intending to pass anhydrous ammonia vessels moored in Port Sutton, and all vessels intending to moor in the R. E. Knight facilities at Hookers Point while an anhydrous ammonia vessel is moored in this facility, must give 30 minutes notice to the anhydrous ammonia vessel so it may take appropriate safety precautions.

* * * * *

(g) Vessels carrying anhydrous ammonia are permitted to enter and transit Tampa and Hillsborough Bay and approaches only with a minimum of three miles visibility.

* * * * *

Dated: February 8, 2000.
A.L. Thompson, Jr.,
Captain, U.S. Coast Guard, Captain of the Port.

[FR Doc. 00-4374 Filed 2-23-00; 8:45 am]

BILLING CODE 4910-15-P